DEPARTMENT OF HEALTH AND HUMAN SERVICES

Centers for Disease Control and Prevention

[60-Day-11-11EF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Dynamic Decision Making in Mine Emergency Situations—Existing Collection in use without an OMB control number—National Institute for Occupational Safety and Health (NIOSH), Centers for Disease Control and Prevention (CDC).

Background and Brief Description

Mining is a context filled with tragic outcomes, as thousands of miners die in mining accidents each year throughout the world. In the process of examining workers' responses in emergency situations in mines, researchers at the NIOSH-Pittsburgh Research Laboratory (PRL) have found that one of the key human behavior processes that need to be better understood to better handle emergency situations is Decision Making (Vaught, Brnich, & Mallett, 2004). Decision Making, the process by which alternatives are constructed and a choice is made, continues to be one of the critically understudied aspects of mine emergencies. For example, The Mine Safety Technology and Training (MSTT) Commission suggests that escape/rescue decision-making is one of the most critical skill/knowledge gaps identified in mining (MSTTC, 2006). Their report strongly supports the need for additional training in decision-making during emergency situations to improve the ability of miners to escape (or be rescued).

The research proposed here will help address this gap by integrating the theoretical knowledge of human decision making in dynamic situations with the practical aspects of training miners. The research will result in the improved science of decision making and practical guidelines and tools that demonstrate how to best train decision making in the unique conditions of accidents when under workload, uncertainty, and time constraints.

A simple Decision Making Game (DMGame) will be used in a laboratory study to investigate choice strategies based on the dynamic development of cues. Through a contract with the Centers for Disease Control and Prevention (Contract #200-2009-31403), the Dynamic Decision Making Laboratory at Carnegie Mellon University will investigate several independent variables relevant to Instance-Based Learning Theory, including: The diversity of instances, the number of instances (base rates) needed to improve accuracy in the triage process, and the effects of time constraints and workload on the effectiveness of triage. The manipulation of these independent variables will reveal training scenarios and conditions that are more effective during learning and at transfer. Knowledge acquired during training will be tested in transfer conditions. The transfer conditions will vary depending on the participants used in the experiment. New guidelines for training for unexpected situations will be developed from the results of the laboratory experiment. The results and guidelines will be published in journal research papers and presented in international conferences and meeting.

The Dynamic Decision Making Laboratory conducted this research with a total of 28 students from Carnegie Mellon University and the University of Pittsburgh between January 2010 and December 2010. Participants were recruited through an online research participant pool from Carnegie Mellon University and the University of Pittsburgh to participate in a simple DMGame, called the “Work Hazard Game.” Participants were asked to read and sign a consent form. After signing the form, participants were provided with instructions on how to play the game. They then completed the Work Hazard Game. Overall, participation lasted about 30 minutes. The game recorded participants' actions and the data was transferred to statistical software (i.e., SPSS) for analysis. Participants were not asked to identify which school they were affiliated with. There were no costs to respondents other than their time.

Estimated Annualized Burden Hours
Respondents/form name | Number of respondents | Number of responses per respondent | Average burden response (in hours) | Total burden (in hours)
Student | 28 | 1 | 30/60 | 14
Total |  |  |  | 14

Daniel Holcomb,
Reports Clearance Officer, Centers for Disease Control and Prevention.

[FR Doc. 2011-9419 Filed 4-18-11; 8:45 am]

BILLING CODE 4163-18-P